INTERNATIONAL TRADE COMMISSION

[Investigation No. 337-TA-931]

Certain Formatted Magnetic Data Storage Tapes and Cartridges Containing Same; Notice of Commission Determination Not To Review an Initial Determination To Amend the Complaint and Notice of Investigation

AGENCY: U.S. International Trade Commission.

ACTION: Notice.

SUMMARY: Notice is hereby given that the U.S. International Trade Commission has determined not to review an initial determination (“ID”) (Order No. 7) to amend the complaint and notice of investigation to add as respondents Oracle America, Inc., of Redwood Shores, California, and Fujifilm Recording Media USA, Inc., of Bedford, Massachusetts.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on September 29, 2014, based on a complaint filed by Advanced Research Corporation of White Bear Lake, Minnesota (“ARC”). 79 FR 58382 (Sept. 29, 2014). The complaint alleged violations of section 337 of the Tariff Act of 1930, as amended (19 U.S.C. 1337), based upon the importation into the United States, the sale for importation, and the sale within the United States after importation of certain formatted magnetic data storage tapes and cartridges containing the same, by reason of infringement of five U.S. patents. The original notice of investigation named as respondents International Business Machines Corp. of Armonk, NY; Fujifilm Holdings Corporation of Tokyo, Japan; Fujifilm Corporation of Tokyo, Japan; and Oracle Corporation of Redwood Shores, California. Id. at 58383. The Office of Unfair Import Investigations is participating in the investigation. Id.

On November 18, 2014, ARC filed an unopposed motion to amend the complaint and notice of investigation to add as respondents Oracle America, Inc., of Redwood Shores, California, and Fujifilm Recording Media USA, Inc., of Bedford, Massachusetts.

On December 1, 2014, the ALJ issued the subject ID (Order No. 7) granting the motion to amend the complaint and notice of investigation. The ALJ found good cause for the amendment because ARC very recently learned of the additional respondents through discovery, the amendment would not delay the investigation, and the amendment would not prejudice the current parties to the investigation. No petitions for review of the ID were filed.

The Commission has determined not to review the ID.

The authority for the Commission's determination is contained in section 337 of the Tariff Act of 1930, as amended (19 U.S.C. 1337), and in part 210 of the Commission's Rules of Practice and Procedure (19 CFR part 210).

By order of the Commission.
Issued: December 24, 2014.
Jennifer Rohrbach,
Supervisory Attorney.

[FR Doc. 2014-30626 Filed 12-30-14; 8:45 am]

BILLING CODE 7020-02-P